DEPARTMENT OF THE TREASURY

Office of Foreign Assets Control

Unblocking of Specially Designated Nationals and Blocked Persons Pursuant to Executive Order 13288, as Amended by Executive Order 13469, and Executive Order 13391

AGENCY: Office of Foreign Assets Control, Treasury.

ACTION: Notice.

SUMMARY: The Treasury Department's Office of Foreign Assets Control (OFAC) is removing the names of three individuals and one entity whose property and interests in property have been blocked pursuant to Executive Order 13288 of March 6, 2003, “Blocking Property of Persons Undermining Democratic Institutions in Zimbabwe,” as amended by Executive Order 13391, “Blocking Property of Additional Persons Undermining Democratic Processes or Institutions in Zimbabwe,” and Executive Order 13469 of July 25, 2008, “Blocking Property of Additional Persons Undermining Democratic Processes or Institutions in Zimbabwe.”

DATES: OFAC's actions described in this notice are effective as of September 3, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On September 3, 2015, OFAC, in consultation with the State Department, determined that circumstances no longer warrant the inclusion of the following three individuals and one entity on OFAC's SDN list, and that these individuals and entity are no longer subject to the blocking provisions of Section 1(a) of E.O. 13288, as amended by E.O. 13469, and Section 1(a) of E.O. 13991.

1. ORYX NATURAL RESOURCES (a.k.a. ORYX DIAMONDS; a.k.a. ORYX DIAMONDS (PTY) LTD; a.k.a. ORYX DIAMONDS LTD.; a.k.a. ORYX ZIMCON (PVT) LIMITED), S Drive, George Town, Grand Cayman, Cayman Islands; Bank of Nova Scotia Bldg., Fourth Floor, George Town, Grand Cayman, Cayman Islands; 3, Victor Darcy Close, Borrowdale, Harare, Zimbabwe; Parc Nicol Offices, Bldg. 6, 301, William Nicol Drive, Bryanston, Gauteng 2021, South Africa; Alexander Forbes Building, Windhoek, Namibia; Bermuda [ZIMBABWE].

2. NKOMO, Louise S. (a.k.a. NHEMA, Louise Sehulle), 3 Farthinghill Road, Borrowdale, Harare, Zimbabwe; DOB 25 Aug 1964; Passport ZE151361 (Zimbabwe); Spouse of Francis Nhema (individual) [ZIMBABWE].

3. SEKERAMAYI, Lovemore; Chief Elections Officer (individual) [ZIMBABWE].

4. SHAMUYARIRA, Nathan Marwirakuwa; DOB 29 Sep 1928; Passport AD000468 (Zimbabwe); Politburo Secretary for Information and Publicity (individual) [ZIMBABWE].

Dated: September 3, 2015.
John E. Smith,
Acting Director, Office of Foreign Assets Control.

[FR Doc. 2015-22638 Filed 9-8-15; 8:45 am]

BILLING CODE 4810-AL-P